NUCLEAR REGULATORY COMMISSION

Documents Containing Reporting or Recordkeeping Requirements; Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed Rule—10 CFR Part 40—Amendments to Require NRC Approval for Transfers of Certain Source Materials by Specific Licensees

3. The form number if applicable: Not applicable.

4. How often the collection is required: On occasion.

5. Who will be required or asked to report: Licensees desiring to transfer quantities of less than 0.05 percent source material to exempt persons under 10 CFR 40.13(a).

6. An estimate of the number of responses: 7 per year.

7. The estimated number of annual respondents: 5.

8. An estimate of the total number of hours needed annually to complete the requirement or request: 300 hours (250 hours for initial transfer requests and 50 hours for additional information if requested by NRC).

9. An indication of whether section 3507(d), Pub. L. 104-13 applies: Applicable.

10. Abstract: The Nuclear Regulatory Commission (NRC) is proposing to amend its regulations to require NRC approval for transfers from licensees of quantities of source material that is less than 0.05 percent by weight to persons exempt from licensing requirements under § 40.13(a). The object of this proposed action is to ensure that the regulations regarding transfers of materials containing low concentrations of source material are adequate to protect public health and safety.

Submit by September 27, 2002, comments that address the following questions:

1. Is the proposed collection of information necessary for the NRC to properly perform its functions? Does the information have practical utility?

2. Is the burden estimate accurate?

3. Is there a way to enhance the quality, utility, and clarity of the information to be collected?

4. How can the burden of the information collected be minimized, including the use of automated collection techniques or other forms of information technology?

A copy of the submittal may be viewed free of charge at the NRC Public Document Room, One White Flint North, 11555 Rockville Pike, Room O-1 F21, Rockville, MD 20852. The proposed rule indicated in “The title of the information collection” is or has been published in the Federal Register within several days of the publication date of this Federal Register Notice. The OMB clearance package and rule are available at the NRC worldwide Web site: http://www.nrc.gov/public-involve/doc-comment/omb/index.html for 60 days after the signature date of this notice and are also available at the rule forum site, http://ruleforum.IInI.gov.

Comments and questions should be directed to the OMB reviewer by September 27, 2002: Bryon Allen, Office of Information and Regulatory Affairs (3150-0020), NEOB-10202, Office of Management and Budget, Washington, DC 20503.

Comments can also be submitted by telephone at (202) 395-3087.

The NRC Clearance Officer is Brenda Jo. Shelton, (301) 415-7233.

Dated at Rockville, Maryland, this 13th day of August 2002.
For the Nuclear Regulatory Commission.
Brenda Jo. Shelton,
NRC Clearance Officer, Office of the Chief Information Officer.

[FR Doc. 02-21885 Filed 8-27-02; 8:45 am]

BILLING CODE 7590-01-P